SMALL BUSINESS ADMINISTRATION

Data Collection Available for Public Comments and Recommendations

ACTION: 60 Day notice and request for comments. 8(a) Business Development Program.

SUMMARY: In accordance with the Paperwork Reduction Act of 1995, this notice announces the Small Business Administration's (SBA's) intentions to request approval on a new information collection.

DATES: Submit comments on or before February 8, 2013.

ADDRESSES: Send all comments regarding whether or not this information collection is necessary for the proper performance of the function of the agency, whether or not the burden estimates are accurate, and whether or not there are ways to minimize the estimated burden and enhance the quality of the collection, to Joan Elliston, Program Analyst, Office of Business Development, U.S. Small Business Administration, 409 3rd Street, 8th Floor, Washington, DC 20416.

FOR FURTHER INFORMATION CONTACT: Joan Elliston, Program Analyst, (202) 205-7190, joan.elliston@sba.gov; Curtis B. Rich, Management Analyst, (202) 205-7030, curtis.rich@sba.gov.

SUPPLEMENTARY INFORMATION: Comments on reporting and recordkeeping requirements that will affect small businesses seeking to maintain 8(a) Business Development (BD) program eligibility. SBA is creating a new form: “8(a) Participant Benefits Report,” required by Title 13 of Code of Federal Regulations, Section 124.604. individual 8(a) Participant firm is responsible for completing the form. The 8(a) Participant firm can furnish its own benefits information or can utilize the benefits information offered by its parent corporation. The 8(a) Participant firm must show how the Tribe, ANC, NHO or CDC has provided benefits to the Tribal or native members and/or the Tribal, native or other community due to the Tribe's/ANC's/NHO's/CDC's participation in the 8(a) BD program through one or more firms. This data includes information relating to funding cultural programs, employment assistance, jobs, scholarships, internships, subsistence activities, and other services provided by the Tribe, ANC, NHO or CDC to the affected community.

Title: “8(a) Participant Benefits Report”.

Description of Respondents: Firms that are currently certified as 8(a) Participant firms in the 8(a) Business Development program and are owned by a Tribe, Alaskan Native Corporation (ANC), Native Hawaiian Organization (NHO) or Community Development and Corporation (CDC).

Form Number: N/A.

Annual Responses: 320.

Annual Burden: 480.

Curtis Rich,
Management Analyst.

[FR Doc. 2012-29729 Filed 12-7-12; 8:45 am]

BILLING CODE 8025-01-P